DEPARTMENT OF HEALTH AND HUMAN SERVICES

Centers for Disease Control and Prevention

[Docket Number NIOSH-091]

NIOSH Proposed Revision of the “Occupational Exposure Sampling Strategies Manual (OESSM)”

AGENCY: The National Institute for Occupational Safety and Health (NIOSH), Centers for Disease Control and Prevention (CDC).

ACTION: Notice to request public comments.

SUMMARY: The National Institute for Occupational Safety and Health (NIOSH) is considering updating the Occupational Exposure Sampling Strategies Manual(OESSM), NIOSH Document Number: DHHS (NIOSH) Publication Number 77-173; and requests user feedback to maximize the relevancy of any revisions to the document. Specifically, NIOSH seeks input in the following areas:

1. The relevance, currency, and appropriateness of the OESSM; identification of the most useful components of the OESSM; information on the disciplines and jobs of current users; and other useful resources related to sampling strategies.

2. The need for an updated/revised OESSM; the types of information needed but not currently included in the OESSM; the revisions needed to make the OESSM more useful; the gaps, unmet needs for guidance, or needs for new information; and the topics that do not need to be updated or addressed in the OESSM to avoid duplicating already existing materials.

3. Information needs relative to exposure assessment and sampling strategies (e.g., qualitative vs. quantitative, control banding approaches, etc.).

4. The Action Level approach (decision statistics, utility of the decision logic chart in the current OESSM [p. 11]).

5. Statistical issues, including the need for new sampling strategy statistics, the existing sampling strategy applications, and the need for specific sampling strategies that are currently not addressed.

6. The most appropriate (needed or preferred) dissemination medium for an updated/revised OESSM (hard copy, CD, Web-based, etc.), including the preferred organizational format (e.g., one large document, one overview document with several monographs on specific topics, etc).

NIOSH expects to hold a public meeting (date, time, and location to be announced in the Federal Register on a later date) for additional input on future occupational exposure sampling strategies guidance.

A copy of the current Occupational Exposure Sampling Strategies Manual and additional information related to this announcement can be found at: http://www.cdc.gov/niosh/review/public/77-173.

ADDRESSES: Comments should be submitted to the NIOSH Docket Office, ATTN: Docket Number NIOSH-091, Robert A. Taft Laboratories, 4676 Columbia Parkway, M/S C-34, Cincinnati, OH 45226, telephone 513/533-8450, fax 513/533-8285.

Comments may also be submitted directly through the Web site http://www.cdc.gov/niosh/review/public/77-173. The document will remain available for comment until February 28, 2007.

All information received in response to this notice will be available for public examination and copying at the NIOSH Docket Office, Room 113, 4676 Columbia Parkway, Cincinnati, Ohio 45226.

Contact Person for Technical Information: Mary Lynn Woebkenberg, Ph.D., Robert A Taft Laboratories, 4676 Columbia Parkway, Mailstop C-22, Cincinnati, Ohio 45226.

Dated: December 18, 2006.
James D. Seligman,
Chief Information Officer, Center for Disease Control and Prevention.

[FR Doc. E6-22120 Filed 12-26-06; 8:45 am]

BILLING CODE 4163-19-P